SMALL BUSINESS ADMINISTRATION

Diamond State Ventures III, L.P.; License No. 06/06-0345; Notice Seeking Exemption Under Section 312 of the Small Business Investment Act, Conflicts of Interest

Notice is hereby given that Diamond State Ventures III, L.P., 200 River Market Avenue, Suite 400, Little Rock, AR 72201, a Federal Licensee under the Small Business Investment Act of 1958, as amended (“the Act”), in connection with the financing of a small concern, has sought an exemption under Section 312 of the Act and Section 107.730, Financings which constitute Conflicts of Interest of the Small Business Administration (“SBA”) Rules and Regulations (13 CFR 107). Diamond State Ventures III, L.P. proposes to provide debt and equity financing to Whitworth Tool, LLC, 114 Industrial Park Road, Hardinsburg, KY 40143.

The financing is brought within the purview of § 107.730(a)(4) of the Regulations because the proceeds will be used to discharge an obligation to Diamond State Ventures II LP, an Associate of Diamond State Ventures III, L.P. Therefore this transaction requires prior SBA exemption.

Notice is hereby given that any interested person may submit written comments on the transaction, within fifteen days of the date of this publication, to the Associate Administrator for Investment and Innovation, U.S. Small Business Administration, 409 Third Street SW., Washington, DC 20416.

Javier E. Saade,
Associate Administrator for Office of Investment and Innovation.

[FR Doc. 2014-07667 Filed 4-4-14; 8:45 am]

BILLING CODE 8025-01-P